AGENCY FOR INTERNATIONAL DEVELOPMENT

48 CFR Parts 715 and 752

RIN 0412-AA88

U.S. Agency for International Development Acquisition Regulation; Administrative Updates: Correction

AGENCY: U.S. Agency for International Development.

ACTION: Direct final rule; correction.

SUMMARY: On January 23, 2024, the U.S. Agency for International Development (USAID) issued a direct final rule revising the Agency for International Development Acquisition Regulation (AIDAR) to maintain consistency with Federal and agency regulations, remove obsolete material and internal agency procedures, and make editorial amendments to clarify the regulation. This document makes two corrections to the rule.

DATES: Effective May 22, 2024.

FOR FURTHER INFORMATION CONTACT: Lyudmila Bond, 202-916-2622, policymailbox@usaid.gov.

SUPPLEMENTARY INFORMATION: On January 23, 2024, at 89 FR 4201, the U.S. Agency for International Development (USAID) issued a direct final rule. This document makes corrections to the amendments to sections 715.604 and 752.222-71.

Correction

In the FR Doc. No. 2023-27953, appearing on page 4201 in the Federal Register issue of Tuesday, January 23, 2024, USAID is making the following corrections:

715.604 [Corrected]

1. On page 4206, in the first column, section 715.604 is corrected by revising paragraph (a) to read as follows:

“(a) USAID's Industry Liaison, Bureau for Management, Office of Acquisition and Assistance, manages the receipt and evaluation of unsolicited proposals. Unsolicited proposals may be submitted via: https://www.workwithusaid.gov/unsolicited-submissions.”

752.222-71 [Corrected]

2. On page 4208, in the second column, in section 752.222-71, under “Nondiscrimination (May 2024)”, in the third sentence, after “genetic information”, remove “religion,”.

Jami J. Rodgers,
Chief Acquisition Officer.

[FR Doc. 2024-11061 Filed 5-20-24; 8:45 am]

BILLING CODE 6116-01-P